DEPARTMENT OF THE INTERIOR

Bureau of Land Management

[NV-910-04-1990-EX]

Notice of Intent To Prepare an Environmental Impact Statement on a Plan of Operations for the Newmont Mining Corporation Emigrant Mine Project in Elko County, NV; and Notice of Scoping Period and Public Meeting

AGENCY: Bureau of Land Management, Interior.

ACTION: Notice of Intent.

SUMMARY: In accordance with section 102(2)(c) of the National Environmental Policy Act of 1969 and 43 CFR part 3809, the Bureau of Land Management Elko Field Office will be directing the preparation of an EIS by a third-party contractor on the potential impacts of a proposed Plan of Operations for gold mining by Newmont Mining Corporation in Elko County, Nevada. The project encompasses approximately 1,172 acres of public land.

DATES: This Notice initiates the 30-day public scoping period. Within 30 days of the publication of this Notice, a public scoping meeting will be held at the BLM Elko Field Office, 3900 East Idaho Street, Elko, Nevada, to familiarize interested publics with the project and to identify issues and concerns to be addressed in the EIS. The scoping meeting will be announced through the local news media, newsletters, and the BLM Web site at www.nv.blm.gov/Elko at least 15 days prior to the event. Any additional public meetings, if necessary, will be announced similarly. Comments on issues can also be submitted in writing to the address listed below and for 30 days after publication of this Notice in the Federal Register. In addition to the ongoing public participation process, formal opportunities for public participation will be provided upon publication of the BLM Draft EIS.

ADDRESSES: You may submit comments by any of the following methods:

—E-mail: tschmidt@nv.blm.gov.

—Fax: (775) 753-0255.

—Mail: Send to the attention of the Emigrant Mine Project Manager, BLM Elko Field Office, 3900 East Idaho Street, Elko, NV 89801.

Comments, including names and street addresses of respondents, will be available for public review at the above address during regular business hours 7:30 a.m. to 4:30 p.m., Monday through Friday, except holidays, and may be published as part of the EIS. Individual respondents may request confidentiality. If you wish to withhold your name or street address from public review or from disclosure under the Freedom of Information Act, you must state this prominently at the beginning of your written comment. However, we will not consider anonymous comments. Such requests will be honored to the extent allowed by law. All submissions from organizations or businesses, and from individuals identifying themselves as representatives or officials of organizations or businesses, will be available for public inspection in their entirety.

FOR FURTHER INFORMATION CONTACT: Tom Schmidt, Project Manager at the Elko Field Office, 3900 E. Idaho Street, Elko, NV 89801. Telephone: (775) 753-0200. Email: tschmidt@nv.blm.gov.

SUPPLEMENTARY INFORMATION: The Newmont Mining Corporation has submitted a Plan of Operations to open the Emigrant Mine about ten miles south of Carlin, Nevada. The mine and associated facilities would be located in portions of Sections 24, 26, 34, 36 of T. 32 N., R. 53 E.; and Sections 1, 2, 3, 11, 12, T. 31 N., R 53 E. The proposed Emigrant Mine would include developing and operating an open pit mine; constructing a waste rock disposal facility, storing oxide waste in mined out areas of the pit; developing an oxide heap leach pad; constructing ancillary facilities; temporarily rerouting intermittent stream and flows in the pit area; and concurrent reclamation. Proposed mining operations would last for approximately 9 years through the year 2013. Approximately 1172 acres of public land and 260 acres of private land would be disturbed.

The issues expected to be analyzed in the EIS include potential impacts to wildlife and cultural resources; the potential for waste rock, heap leach, and pit walls to produce acid rock drainage or heavy metals; and diversion of an unnamed drainage. Cumulative impacts will also be addressed. In addition, the following resources will be analyzed: geology and minerals, Native American religious concerns, air quality, paleontology, lands and realty, fisheries and aquatic resources, range management, vegetation, soils, visual resources, recreation and wilderness, weeds, social and economic values, environmental justice, and threatened, endangered, candidate, and sensitive resources.

A range of alternatives (including, but not limited to, alternative reclamation measures and the no-action alternative) will be developed to address the issues. Mitigating measures will be considered to minimize environmental impacts and to assure the proposed action does not result in undue or unnecessary degradation of public lands. Federal, state and local agencies and other individuals or organizations who may be interested in or affected by BLM's decision on Emigrant Mine Plan of Operations are invited to participate in the scoping process with respect to this EIS.

Authority: 43 CFR Part 3809.

Dated: March 9, 2004.
Helen Hankins,
Field Office Manager.

[FR Doc. 04-11720 Filed 5-24-04; 8:45 am]

BILLING CODE 4310-HC-P